DEPARTMENT OF AGRICULTURE

Rural Utilities Service

7 CFR Part 1792

RIN 0572-AB74

Seismic Safety

AGENCY: Rural Utilities Service, USDA.

ACTION: Proposed rule.

SUMMARY: The Rural Utilities Service (RUS), an agency delivering the United States Department of Agriculture's Rural Development Utilities Programs is amending its regulations to update the seismic safety requirements of the agency. These amendments will provide RUS borrowers, grant recipients, Rural Telephone Bank (RTB) borrowers, and the public with updated rules for compliance with seismic safety requirements for new building construction using RUS or RTB loan, grant or guaranteed funds or funds provided through lien accommodations or subordinations approved by RUS or RTB.

In the final rules section of this Federal Register, RUS is publishing this action as a direct final rule without prior proposal because RUS views this as a non-controversial action and anticipates no adverse comments. If no adverse comments are received in response to the direct final rule, no further action will be taken on this proposed rule and the action will become effective at the time specified in the direct final rule. If RUS receives adverse comments, a timely document will be published withdrawing the direct final rule and all public comments received will be addressed in a subsequent final rule based on this action.

DATES: Comments on this proposed action must be received by RUS via facsimile transmission or carry a postmark or equivalent no later than June 1, 2004.

ADDRESSESS: You may submit comments by any of the following methods:

• Federal eRulemaking Portal: Go to http://www.regulations.gov. Follow the online instructions for submitting comments.

• Agency Web Site: http://www.usda.gov/rus/index2/Comments.htm. Follow the instructions for submitting comments.

• E-mail: RUSComments@usda.gov. Include in the subject line of the message “Seismic Safety”.

• Mail: Addressed to Richard Annan, Acting Director, Program Development and Regulatory Analysis, Rural Utilities Service, U.S. Department of Agriculture, 1400 Independence Avenue, SW., STOP 1522, Washington, DC 20250-1522.

• Hand Delivery/Courier: Addressed to Richard Annan, Acting Director, Program Development and Regulatory Analysis, Rural Utilities Service, U.S. Department of Agriculture, 1400 Independence Avenue, SW., Room 5168 South Building, Washington, DC 20250-1522.

Instructions: All submissions received must include that agency name and the subject heading “Seismic Safety.” All comments received must identify the name of the individual (and the name of the entity, if applicable) who is submitting the comment. All comments received will be posted without change to http://www.usda.gov/rus/index2/Comments.htm, including any personal information provided.

FOR FURTHER INFORMATION CONTACT: Mr. Donald Heald, Structural Engineer, Transmission Branch, Electric Staff Division, Rural Utilities Service, U.S. Department of Agriculture, 1400 Independence Avenue, SW., STOP 1569, Washington, DC 20250-1569. Telephone: (202) 720-9102. Fax: (202) 720-7491.

SUPPLEMENTARY INFORMATION: See the SUPPLEMENTARY INFORMATION provided in the direct final rule located in the Rules and Regulations direct final rule section of this Federal Register for the applicable SUPPLEMENTARY INFORMATION on this action.

Dated: April 15, 2004.
Hilda Gay Legg,
Administrator, Rural Utilities Service.

[FR Doc. 04-9612 Filed 4-29-04; 8:45 am]

BILLING CODE 3410-15-P